DEPARTMENT OF ENERGY

Federal Energy Regulatory Commission

[Docket No. RP06-312-000]

Mississippi Canyon Gas Pipeline, LLC; Notice of Proposed Changes in FERC Gas Tariff

April 25, 2006.

Take notice that on April 19, 2006, Mississippi Canyon Gas Pipeline, LLC (Mississippi Canyon) tendered for filing as part of its FERC Gas Tariff, First Revised Volume No. 1, the following tariff sheets, to become effective May 19, 2006:

Sixth Revised Sheet No. 2.

Fifth Revised Sheet No. 55.

First Revised Sheet No. 155.

Original Sheet No. 156.

Mississippi Canyon states that copies of its filing have been mailed to all affected customers of Mississippi Canyon and any interested state commissions. However, due to the voluminous nature of this filing, Mississippi Canyon is not providing copies of the filed agreements or red-lines of such agreements as part of each service copy. Mississippi Canyon states that the entire filing (excluding certain confidential information) will be available in its offices and that it will provide copies of such agreements (excluding certain confidential information) to any affected customer or interested state commission who requests such copies.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of section 154.210 of the Commission's regulations (18 CFR 154.210). Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-6559 Filed 5-1-06; 8:45 am]

BILLING CODE 6717-01-P